DEPARTMENT OF THE INTERIOR

National Park Service

Notice of Inventory Completion for Native American Human Remains and Associated Funerary Objects in the Possession of the University of Denver Department of Anthropology and Museum of Anthropology, Denver, CO

AGENCY: National Park Service.

ACTION: Notice.

Notice is hereby given in accordance with provisions of the Native American Graves Protection and Repatriation Act (NAGPRA), 43 CFR 10.9, of the completion of an inventory of human remains and associated funerary objects in the possession of the University of Denver Department of Anthropology and Museum of Anthropology, Denver, CO. This notice is published as part of the National Park Service's administrative responsibilities under NAGPRA, 43 CFR 10.2 (c). The determinations within this notice are the sole responsibility of the museum, institution, or Federal agency that has control of these Native American human remains. The National Park Service is not responsible for the determinations within this notice.

A detailed assessment of the human remains was made by University of Denver Department of Anthropology and Museum of Anthropology professional staff and a contract physical anthropologist, in consultation with representatives of the Alabama-Coushatta Tribes of Texas; Alabama-Quassarte Tribal Town, Oklahoma; Cherokee Nation, Oklahoma; Chickasaw Nation, Oklahoma; Choctaw Nation of Oklahoma; Eastern Band of Cherokee Indians of North Carolina; Jena Band of Choctaw Indians, Louisiana; Kialegee Tribal Town, Oklahoma; Mississippi Band of Choctaw Indians, Mississippi; Muscogee (Creek) Nation, Oklahoma; Poarch Band of Creek Indians of Alabama; Quapaw Tribe of Indians, Oklahoma; Thlopthlocco Tribal Town, Oklahoma; and the United Keetoowah Band of Cherokee Indians of Oklahoma.

At an unknown date, an unknown person removed human remains representing two individuals from the Hales' Point Mound, Lauderdale County, TN. At a later date in the 1950's or 1960's the remains and their associated funerary objects were purchased from Tilton Indian Relics by Mr. Fallis F. Rees, who donated the remains and funerary objects to the University of Denver Department of Anthropology and Museum of Anthropology in 1967. No known individuals were identified. The eight associated funerary objects are one mortuary jar, two water bottles, one of which is Bell Plain, one elbow pipe, three unidentified clay objects with indentations, and one double jar with red slip and shell temper.

The Hales' Point site has been identified archeologically as a Walls phase site. The Walls phase is a Late Mississippian (A.D. 1200-1540) and Early Historic Period (A.D. 1540-1700) cultural unit in the central Mississippi Valley of southwestern Tennessee and eastern Arkansas. The funerary objects support a late precontact date for the remains. At the time that Europeans first visited the region around Hales' Point, in the mid-16th century, both the Quapaw and the Chickasaw lived in the central Mississippi Valley. During consultations, representatives of both the Quapaw Tribe of Indians, Oklahoma, and the Chickasaw Nation, Oklahoma, presented evidence from oral tradition, ethnohistory, archeology, and material culture, specifically continuities in ceramic traditions, to demonstrate their cultural affiliation to the Hales' Point site.

Based on the above-mentioned information, officials of the University of Denver Department of Anthropology and Museum of Anthropology have determined that, pursuant to 43 CFR 10.2 (d)(1), the human remains listed above represent the physical remains of two individuals of Native American ancestry. Officials of the University of Denver Department of Anthropology and Museum of Anthropology also have determined that, pursuant to 43 CFR 10.2 (d)(2), the eight objects listed above are reasonably believed to have been placed with or near individual human remains at the time of death or later as part of the death rite or ceremony. Also, officials of the University of Denver Department of Anthropology and Museum of Anthropology have determined that, pursuant to 43 CFR 10.2 (e), there is a relationship of shared group identity that can be reasonably traced between these Native American human remains and associated funerary objects and the Chickasaw Nation, Oklahoma, and the Quapaw Tribe of Indians, Oklahoma.

This notice has been sent to officials of the Alabama-Coushatta Tribes of Texas; Alabama-Quassarte Tribal Town, Oklahoma; Cherokee Nation, Oklahoma; Chickasaw Nation, Oklahoma; Choctaw Nation of Oklahoma; Eastern Band of Cherokee Indians of North Carolina; Jena Band of Choctaw Indians, Louisiana; Kialegee Tribal Town, Oklahoma; Mississippi Band of Choctaw Indians, Mississippi; Muscogee (Creek) Nation, Oklahoma; Poarch Band of Creek Indians of Alabama; Quapaw Tribe of Indians, Oklahoma; Thlopthlocco Tribal Town, Oklahoma; and the United Keetoowah Band of Cherokee Indians of Oklahoma. Representatives of any other Indian tribe that believes itself to be culturally affiliated with these human remains and associated funerary objects should contact Jan I. Bernstein, Collections Manager and NAGPRA Coordinator at the University of Denver Museum of Anthropology, 2000 Asbury, Sturm Hall S-146, Denver, CO 80208-2406, email jbernste@du.edu, telephone (303) 871-2543, before December 13, 2000. Repatriation of the human remains and associated funerary objects to the Chickasaw Nation, Oklahoma, and the Quapaw Tribe of Indians, Oklahoma, may begin after that date if no additional claimants come forward.

Dated: October 31, 2000.
John Robbins,
Assistant Director, Cultural Resources Stewardship and Partnerships.

[FR Doc. 00-28859 Filed 11-9-00; 8:45 am]

BILLING CODE 4310-70-F